ELECTION ASSISTANCE COMMISSION

Sunshine Act Meetings

AGENCY: Election Assistance Commission.

DATE & TIME: Wednesday, April 29, 2015 at 2:00 p.m.

PLACE: The Williamsburg Woodlands Hotel, 105 Visitor Center Drive, Williamsburg, VA 23185, Phone: (757) 220-7960.

STATUS: This meeting will be open to the public.

ITEMS FOR DISCUSSION AND CONSIDERATION:

• Consideration of Research Report: Urban/Rural Study

• Report of the EAC Standards Board

• Report of the EAC Board of Advisors

• Report of the EAC Transition Team

AGENDA: The Commission will receive a presentation on the DRAFT Urban/Rural Study Research Report, and consider the proposed document for approval. The Commission will receive a presentation on a report from the EAC Standards Board. The Commission will receive a presentation on a report from the EAC Board of Advisors. The Commission will receive a presentation on a report from the EAC Transition Team. The Commission will consider other administrative matters.

Person to Contact for Information: Bryan Whitener at (301) 563-3961.

Dated: April 9, 2015.
Bryan Whitener,
Director of Communications & Clearinghouse.

[FR Doc. 2015-08530 Filed 4-9-15; 4:15 pm]

BILLING CODE 6820-KF-P